DEPARTMENT OF HOMELAND SECURITY

Coast Guard

[USCG-2005-23335]

Natural Working Group on Small Passenger Vessel Access

AGENCY: Coast Guard, DHS.

ACTION: Notice of availability and request for comments.

SUMMARY: On November 14, 2005, the United States Coast Guard (USCG) and the Passenger Vessel Association (PVA) signed a charter establishing a Natural Working Group (NWG). The purpose of this NWG is to determine the acceptability and usefulness of a proposed risk matrix that was developed, by the Volpe Center, to assist small passenger vessel designers in meeting the requirements of the Americans with Disabilities Act (ADA) without compromising vessel safety. The USCG is seeking comments on this initiative and the draft risk matrix to assist the NWG in meeting its objective.

DATES: Comments and related materials must reach the Docket Management Facility on or before March 20, 2006.

ADDRESSES: You may submit comments identified by Coast Guard docket number USCG-2005-23335 to the Docket Management Facility at the U.S. Department of Transportation. To avoid duplication, please use only one of the following methods:

(1) Web site: http://dms.dot.gov;

(2) Mail: Docket Management Facility, U.S. Department of Transportation, 400 Seventh Street, SW., Washington, DC 20590-0001;

(3) Fax: 202-493-2251; or

(4) Delivery: Room PL-401 on the Plaza level of the Nassif Building, 400 Seventh Street, SW., Washington, DC, between 9 a.m. and 5 p.m., Monday through Friday, except Federal holidays. The telephone number is 202-366-9329.

FOR FURTHER INFORMATION CONTACT: If you have questions about this Notice of Availability and Request for Comments, you may contact LT William A. Nabach at (202) 267-4004 or by e-mail at wnabach@comdt.uscg.mil.

SUPPLEMENTARY INFORMATION:

Request for Comments

The USCG is seeking comments and related materials pertaining to this notice, the NWG charter and the draft risk matrix in the Volpe Phase 2 report. The NWG Charter and Volpe Center report (phase 1 and 2) may be found by running a “simple search” for docket number 23335 at http://dms.dot.gov. All comments will be posted, without change, to http://dms.dot.gov and will include any personal information that you have provided. Persons submitting comments should include their names, addresses and this notice reference number (USCG-2005-23335). We will consider all comments and materials received during the comment period.

Background Information

The Americans with Disabilities Act was signed into law in July 1990 (Pub. L. 101-336). The U.S. Departments of Justice and Transportation, and the Architectural and Transportation Barriers Compliance Board (Access Board) issued regulations and guidelines in July and September 1991. Both the DOT's and Access Board's Rules noted that while ADA applied to vessels, further rulemaking would be deferred until a better understanding could be gained of the unique challenges faced by the marine industry.

It soon became apparent the one of the most difficult challenges to complying with ADA would be the barrier to access presented by the USCG mandated door sills. The Access Board requested that the Volpe Center conduct research on this issue and develop a strategy to enable small passenger vessel designers to satisfy both the ADA accessibility requirements and the USCG's door sill requirements. The Volpe Center's research culminated in a draft risk matrix (available in the Phase 2 report) that provides a methodology to assess the risk presented to the vessel by each individual exterior door and justify a reduction in the sill height requirement for doors of lower risk.

The USCG is interested in adopting this risk-based methodology as policy, but must first evaluate the validity of the approach against a broad cross-section of small passenger vessel designs. The NWG is tasked with completing this evaluation. Please refer to the NWG charter for further details.

The Volpe Center's report (Phase 1 and 2) are also available online through the Access Board's Web site: http://www.access-board.gov/news/research-vessels.htm.

Dated: December 13, 2005.
Howard L. Hime,
Acting Director of Standards, Marine Safety, Security and Environmental Protection.

[FR Doc. E5-7508 Filed 12-16-05; 8:45 am]

BILLING CODE 4910-15-P